POSTAL REGULATORY COMMISSION

Post Office Closing

AGENCY: Postal Regulatory Commission.

ACTION: Notice; correction.

SUMMARY: The Postal Regulatory Commission published a document in the Federal Register of November 30, 2010 concerning an appeal of the closing of the Graves Mill, Virginia post office. The procedural schedule that appeared after ordering paragraph number 5 contained two incorrect entries. This document corrects those entries.

FOR FURTHER INFORMATION CONTACT: Stephen L. Sharfman, General Counsel, at 202-789-6824 or stephen.sharfman@prc.gov.

Correction

In the Federal Register of November 30, 2010, in FR Doc. 2010-30075, on page 74109, in the table that appears following ordering paragraph number 5 in the third column of text, correct the Procedural Schedule by (i) deleting the entry for December 13, 2010 in the first column of the table in its entirety and deleting the corresponding description in the second column of the table; and (ii) with respect to the December 27, 2010 entry in the first column of the table, deleting the corresponding entry in the second column of the table in its entirety and replacing it with the following description: Deadline for Petitioner's Form 61 or initial brief in support of petition (see 39 CFR 3001.115(a) and (b)).

Dated: December 9, 2010.
Shoshana M. Grove,
Secretary.

[FR Doc. 2010-31294 Filed 12-13-10; 8:45 am]

BILLING CODE 7710-FW-P